Memorandum of June 29, 2017

Delegation of Authority Under the National Defense Authorization Act for Fiscal Year 1998

Memorandum for the Secretary of Commerce

By the authority vested in me as President by the Constitution and the laws of the United States of America, including section 301 of title 3, United States Code, I hereby delegate to the Secretary of Commerce the functions and authorities vested in the President under section 1211 of the National Defense Authorization Act for Fiscal Year 1998 (Public Law 105-85) (the “Act”), to prepare and submit required reports and justifications to appropriate congressional committees on changes to levels governing prior notification for exports to Computer Tier 3 countries, or removal of a country from Computer Tier 3 status, in the Department of Commerce's Export Administration Regulations.

The delegation in this memorandum shall apply to any provision of any future public law that is the same or substantially the same as section 1211 of the Act.

You are authorized and directed to publish this memorandum in the Federal Register.

THE WHITE HOUSE,

Washington, June 29, 2017

[FR Doc. 2017-14253

Filed 7-3-17; 11:15 am]

Billing code 3510-07-P